DEPARTMENT OF ENERGY

Federal Energy Regulatory Commission

Combined Notice of Filings #1

Take notice that the Commission received the following electric corporate filings:

Docket Numbers: EC20-32-000.

Applicants: Commonwealth Edison Company.

Description: Application for Authorization Under Section 203 of the Federal Power Act, et al. of Commonwealth Edison Company.

Filed Date: 1/14/20.

Accession Number: 20200114-5227.

Comments Due: 5 p.m. ET 2/4/20.

Take notice that the Commission received the following exempt wholesale generator filings:

Docket Numbers: EG20-65-000.

Applicants: La Chalupa, LLC.

Description: Notice of Self-Certification of Exempt Wholesale Generator Status of La Chalupa, LLC.

Filed Date: 1/16/20.

Accession Number: 20200116-5048.

Comments Due: 5 p.m. ET 2/6/20.

Take notice that the Commission received the following electric rate filings:

Docket Numbers: ER10-1801-004; ER10-1805-005; ER10-2370-003.

Applicants: The Connecticut Light and Power Company, NSTAR Electric Company, Public Service Company of New Hampshire.

Description: Updated Market Power Analysis for Northeast Region of the Eversource Companies.

Filed Date: 12/23/19.

Accession Number: 20191223-5280.

Comments Due: 5 p.m. ET 2/21/20.

Docket Numbers: ER10-2502-007; ER10-2472-006; ER10-2473-006; ER11-2724-007; ER11-4436-005; ER18-2518-002; ER19-645-001.

Applicants: Black Hills Colorado Electric, LLC, Black Hills Colorado IPP, LLC, Black Hills Colorado Wind, LLC, Black Hills Electric Generation, LLC, Black Hills Power, Inc., Black Hills Wyoming, LLC, Cheyenne Light Fuel & Power Company.

Description: Amendment to June 27, 2019 Updated Market Power Analysis of the Black Hills MBR Sellers for the Northwest Region.

Filed Date: 1/14/20.

Accession Number: 20200114-5224.

Comments Due: 5 p.m. ET 2/4/20.

Docket Numbers: ER20-419-002.

Applicants: ITC Midwest LLC.

Description: Tariff Amendment: Amendment to CIAC Agreement Filing to be effective 1/19/2020.

Filed Date: 1/15/20.

Accession Number: 20200115-5117.

Comments Due: 5 p.m. ET 2/5/20.

Docket Numbers: ER20-553-001.

Applicants: Sierra Pacific Power Company.

Description: Tariff Amendment: Service Agreement No. 16-00054; Battle Mountain LGIA Amendment to be effective 12/11/2019.

Filed Date: 1/16/20.

Accession Number: 20200116-5057.

Comments Due: 5 p.m. ET 2/6/20.

Docket Numbers: ER20-806-000.

Applicants: Midcontinent Independent System Operator, Inc., Otter Tail Power Company.

Description: § 205(d) Rate Filing: 2020-01-15_SA 3404 OTP-NSP FSA (J436 J437) Hankinson-Ellendale to be effective 3/16/2020.

Filed Date: 1/15/20.

Accession Number: 20200115-5111.

Comments Due: 5 p.m. ET 2/5/20.

Docket Numbers: ER20-807-000.

Applicants: Ruff Solar LLC.

Description: Baseline eTariff Filing: Ruff Solar, LLC MBR Application to be effective 4/1/2020.

Filed Date: 1/15/20.

Accession Number: 20200115-5122.

Comments Due: 5 p.m. ET 2/5/20.

Docket Numbers: ER20-808-000.

Applicants: PJM Interconnection, L.L.C.

Description: § 205(d) Rate Filing: Original ISA, SA No. 5548; Queue No. AC1-076 AE2-134 to be effective 12/16/2019.

Filed Date: 1/15/20.

Accession Number: 20200115-5124.

Comments Due: 5 p.m. ET 2/5/20.

Docket Numbers: ER20-809-000.

Applicants: Nevada Gold Energy LLC.

Description: § 205(d) Rate Filing: Notice of Succession to be effective 1/1/2020.

Filed Date: 1/16/20.

Accession Number: 20200116-5000.

Comments Due: 5 p.m. ET 2/6/20.

Docket Numbers: ER20-810-000.

Applicants: Southwestern Public Service Company.

Description: Tariff Cancellation: Golden Spread Electric Cooperative, Inc.—FERC Electric Rate Schd No. 135—NOC to be effective 5/1/2019.

Filed Date: 1/16/20.

Accession Number: 20200116-5004.

Comments Due: 5 p.m. ET 2/6/20.

Docket Numbers: ER20-811-000.

Applicants: Wisconsin Public Service Corporation.

Description: § 205(d) Rate Filing: Filing of Revised Agreements with Village of Stratford to be effective 3/17/2020.

Filed Date: 1/16/20.

Accession Number: 20200116-5014.

Comments Due: 5 p.m. ET 2/6/20.

Docket Numbers: ER20-812-000.

Applicants: Arizona Public Service Company.

Description: § 205(d) Rate Filing: Service Agreement No. 371—TOUA to be effective 1/1/2020.

Filed Date: 1/16/20.

Accession Number: 20200116-5028.

Comments Due: 5 p.m. ET 2/6/20.

Docket Numbers: ER20-813-000.

Applicants: Mercuria Energy America, Inc.

Description: § 205(d) Rate Filing: Notice of Succession to be effective 1/17/2020.

Filed Date: 1/16/20.

Accession Number: 20200116-5052.

Comments Due: 5 p.m. ET 2/6/20.

Docket Numbers: ER20-814-000.

Applicants: Midcontinent Independent System Operator, Inc., ITC Midwest LLC, Consumers Energy Company.

Description: § 205(d) Rate Filing: 2020-01-16_SA 1756 METC-Consumers Energy 13th Rev GIA (G479B) to be effective 1/1/2020.

Filed Date: 1/16/20.

Accession Number: 20200116-5061.

Comments Due: 5 p.m. ET 2/6/20.

Docket Numbers: ER20-815-000.

Applicants: PacifiCorp.

Description: § 205(d) Rate Filing: Exelon NITSA (OR DA) SA 943 Rev 1 to be effective 1/1/2020.

Filed Date: 1/16/20.

Accession Number: 20200116-5062.

Comments Due: 5 p.m. ET 2/6/20.

Docket Numbers: ER20-816-000.

Applicants: Southern California Edison Company.

Description: Tariff Cancellation: Cancel GIA and Service Agreement Lendlease California City Solar LLC to be effective 3/17/2020.

Filed Date: 1/16/20.

Accession Number: 20200116-5065.

Comments Due: 5 p.m. ET 2/6/20.

Docket Numbers: ER20-817-000.

Applicants: NextEra Energy Transmission MidAtlantic, LLC.

Description: § 205(d) Rate Filing: NextEra Energy Transmission MidAtlantic Indiana, Inc. Notice of Succession to be effective 12/18/2019.

Filed Date: 1/16/20.

Accession Number: 20200116-5076.

Comments Due: 5 p.m. ET 2/6/20.

Docket Numbers: ER20-818-000.

Applicants: Pacific Gas and Electric Company.

Description: § 205(d) Rate Filing: Q4 2019 Quarterly Filing of City and County of San Francisco's WDT SA (SA 275) to be effective 12/31/2019.

Filed Date: 1/16/20.

Accession Number: 20200116-5077.

Comments Due: 5 p.m. ET 2/6/20.

Docket Numbers: ER20-819-000.

Applicants: Blythe Solar III, LLC.

Description: Baseline eTariff Filing: Blythe Solar III, LLC Application for MBR Authority to be effective 3/17/2020.

Filed Date: 1/16/20.

Accession Number: 20200116-5078.

Comments Due: 5 p.m. ET 2/6/20.

Docket Numbers: ER20-820-000.

Applicants: Blythe Solar IV, LLC.

Description: Baseline eTariff Filing: Blythe Solar IV, LLC Application for MBR Authority to be effective 3/17/2020.

Filed Date: 1/16/20.

Accession Number: 20200116-5079.

Comments Due: 5 p.m. ET 2/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern Time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 16, 2020.
Nathaniel J. Davis, Sr.,
Deputy Secretary.

[FR Doc. 2020-01104 Filed 1-22-20; 8:45 am]

BILLING CODE 6717-01-P